ENVIRONMENTAL PROTECTION AGENCY

[FRL-7085-2]

Notice of Availability of the Draft Guidance on Demonstrating Compliance With the Land Disposal Restrictions Alternative Soil Treatment Standards, and the Draft Interpretative Memorandum on the Stabilization of Organic-Bearing Hazardous Wastes

AGENCY: Environmental Protection Agency (EPA).

ACTION: Notice, request for comments.

SUMMARY: The intent of this notice is to announce the availability for public comment of two draft documents. The first document is titled “Guidance on Demonstrating Compliance With the Land Disposal Restrictions Alternative Soil Treatment Standards.” The second document is titled “Interpretative Memorandum on the Stabilization of Organic-Bearing Hazardous Wastes.” By making these documents available for review and comment, we hope to encourage greater involvement by states, industry, and the public.

DATES: To make sure we consider your comments on these documents, we must receive them by December 3, 2001.

ADDRESSES: If you wish to comment on the draft “Guidance on Demonstrating Compliance With the Land Disposal Restrictions Alternative Soil Treatment Standards,” you must submit an original and two copies of the comments referencing Docket No. F-2001-DRG1-FFFFF. If you wish to comment on the draft “Interpretative Memorandum on the Stabilization of Organic-Bearing Hazardous Wastes,” you must submit an original and two copies of the comments referencing Docket No. F-2001-DRG2-FFFFF. If using regular U.S. Postal Service mail to: RCRA Docket Information Center (RIC), Office of Solid Waste (5305G), U.S. Environmental Protection Agency Headquarters (EPA HQ), Ariel Rios Building, 1200 Pennsylvania Avenue, NW., Washington, DC 20460. If using special delivery, such as overnight express service, send to: RCRA Information Center (RIC), located at Crystal Gateway One, 1235 Jefferson Davis Highway, First Floor, Arlington, Virginia 22202. Hand deliveries of comments should be made to the Arlington, VA address above. You may also submit comments electronically by sending electronic mail through the Internet to: rcra-docket@epamail.epa.gov. You should identify comments in electronic format with the appropriate docket number. You must submit all electronic comments as an ASCII (text) file, avoiding the use of special characters and any type of encryption. If you do not submit comments electronically, EPA is asking prospective commenters to voluntarily submit one additional copy of their comments on labeled personal computer diskettes in ASCII (text) format or a word processing format that can be converted to ASCII (text). It is essential to specify on the disk label the word processing software and version/edition as well as the commenter's name. This will allow us to convert the comments into one of the word processing formats utilized by the Agency. Please use mailing envelopes designed to physically protect the submitted diskettes. We emphasize that submission of diskettes is not mandatory, nor will it result in any advantage or disadvantage to any commenter.

You should not submit electronically any confidential business information (CBI). You must submit an original and two copies of the CBI under separate cover to: RCRA CBI Document Control Officer, Office of Solid Waste (5305W), U.S. EPA, Ariel Rios Building, 1200 Pennsylvania Avenue, NW., Washington, DC 20460.

The Agency urges commenters submitting data in support of their views to include data evidence that appropriate quality assurance/quality control ¹ (QA/QC) procedures were followed in generating the data. Data that the Agency cannot verify through QA/QC documentation may be given less consideration or disregarded in developing the final documents.

¹ For guidance as to how to do so, see Final Best Demonstrated Available Technology (BDAT) Background Document for Quality Assurance/Quality Control Procedures and Methodology; USEPA, October 23, 1991.

You may view public comments and supporting materials in the RCRA Information Center (RIC), located at Crystal Gateway One, 1235 Jefferson Davis Highway, First Floor, Arlington, Virginia. The RIC is open from 9 a.m. to 4 p.m., Monday through Friday, except for Federal holidays. To review docket materials, the public must make an appointment by calling 703-603-9230. The public may copy a maximum of 100 pages from any regulatory docket at no charge. Additional copies cost $0.15 per page. Each docket index and notice is available electronically. See the Supplementary Information section for information on accessing these materials.

FOR FURTHER INFORMATION CONTACT: For general information or to obtain copies of the draft documents, contact the RCRA Hotline at (800) 424-9346 (toll-free) or TDD (800) 553-7672 (hearing impaired). In the Washington, DC, metropolitan area, call (703) 412-9810 or TDD (703) 412-3323. For information on specific aspects of the draft “Guidance on Demonstrating Compliance With the Land Disposal Restrictions Alternative Soil Treatment Standards,” contact Rhonda Minnick, Office of Solid Waste (5302W), U.S. EPA, Ariel Rios Building, 1200 Pennsylvania Avenue, NW., Washington, DC 20460. Rhonda Minnick may be reached at 703-308-8771, minnick.rhonda@epa.gov. For specific information on specific aspects of the draft “Interpretative Memorandum on the Stabilization of Organic-Bearing Hazardous Wastes,” contact Rita Chow, Office of Solid Waste (5302W), U.S. EPA, Ariel Rios Building, 1200 Pennsylvania Avenue, NW., Washington, DC 20460. Rita Chow may be reached at 703-308-6158, chow.rita@epamail.epa.gov.

SUPPLEMENTARY INFORMATION:

I. Availability of Draft Documents on Internet

Please follow these instructions to access the draft documents from the World Wide Web (WWW): (1) For the draft “Guidance on Demonstrating Compliance With the Land Disposal Restrictions Alternative Soil Treatment Standards,” type http://www.epa.gov/ and (2) For the draft “Interpretative Memorandum on the Stabilization of Organic-Bearing Hazardous Wastes,” type http://www.epa.gov/.

II. Guidance on Demonstrating Compliance With the Land Disposal Restrictions Alternative Soil Treatment Standards

A. What Are the Land Disposal Restrictions (LDR) Alternative Soil Treatment Standards?

The Agency promulgated alternative LDR treatment standards for hazardous soil in the Phase IV rule, published May 26, 1998 (63 FR 28556 and 40 CFR 268.49). The LDR treatment standards apply to soils contaminated with hazardous wastes which are excavated and will be land disposed. Under the LDR regulations, you may elect to meet either the alternative soil treatment standards at 40 CFR 268.49, or the more generic treatment standards at 40 CFR 268.40. The alternative treatment standards require that such hazardous soil be treated to reduce concentrations of hazardous constituents by 90 percent, or to meet the hazardous constituent concentrations that are 10 times the Universal Treatment Standard (UTS) found at 40 CFR 268.48, whichever is greater.

B. What Is Included in the Draft Guidance Document?

The interim guidance discusses the alternative treatment standards and why they were developed. It then presents step-by-step guidance on statistical and non-statistical approaches that can help you measure compliance with the alternative soil treatment standards.

C. Can the Draft Guidance Be Used Now?

We are requesting comment on the guidance before it is finalized. However, since the document provides guidance regarding existing rules, and does not impose any regulatory requirements, it may be referred to for assistance in how to apply those underlying rules.

III. Interpretative Memorandum on the Stabilization of Organic-Bearing Hazardous Wastes

A. What Is the Purpose of This Draft Interpretative Memorandum?

The use of stabilization for organic-bearing hazardous wastes to comply with Land Disposal Restrictions (LDR) has been of interest to the regulated community. This draft interpretative memorandum discusses circumstances where stabilization of hazardous organic constituents may be a permissible form of treatment, where it may be classified as impermissible dilution under the LDR program, and describes factors to consider when making these evaluations.

B. Request for Comment

The Agency is requesting comment on this draft interpretative memorandum prior to being finalized. Specifically, the Agency is seeking comment on the need for this interpretative memorandum, additional situations and factors where stabilization may be inappropriate, as well as appropriate for organic-bearing hazardous wastes, and treatment performance data on cases where stabilization was used to treat organic-bearing hazardous wastes.

The guidance document is not a binding regulation, and any decisions regarding legality of organic stabilization activities must still be justified on a case-by-case basis, not merely by reference to the guidance document. Within these constraints, persons are free to consult the interpretive memorandum as an aid in addressing issues regarding legality under existing rules of organic stabilization activities.

Dated: October 4, 2001.
Elizabeth A. Cotsworth,
Director, Office of Solid Waste.

[FR Doc. 01-26087 Filed 10-17-01; 8:45 am]

BILLING CODE 6560-50-P